DEPARTMENT OF DEFENSE

Office of the Secretary

Notice of Solicitation of Proposals for the Department of Defense University Consortium for Cybersecurity Support Center

AGENCY: Office of the Chief Information Officer, Department of Defense (DoD).

ACTION: Solicitation of applications.

SUMMARY: The Secretary of Defense has determined the need for a Support Center (Center) for the University Consortium for Cybersecurity (UC2). The Center will provide, during a two-year term, administrative support for the academic research and engagement activities of UC2. To be eligible, interested institutions must have been designated as National Centers of Academic Excellence (NCAE) in cybersecurity for at least 24 months from the date of the publication of this notice and, further, must demonstrate an understanding of cybersecurity research, be eligible for access to classified material, and demonstrate commitment to the UC2 mission of a closer collaboration between academia and the DoD.

DATES: Consideration will be given to all applications received by October 15, 2024.

FOR FURTHER INFORMATION CONTACT: Dr. Gwyneth Sutherlin, 202-685-2080. The application shall include a cover page, labeled “PROPOSAL UC2 Support Center,” that includes the prospective proposer's administrative point of contact, to include a telephone number and email address. The application must be limited to three (3) pages, single-sided, and must include: a certificate of NCAE designation status for 24 months, a statement of experience and understanding with cybersecurity research, evidence of eligibility to access to classified material, a narrative description of potential contribution and support to UC2 mission, and a potential team and management plan. Reference and other citations are not required but may be included outside the three-page limit.

Documents must be submitted on 8.5 x 11-inch paper, single spaced, with 1-inch margins, in 12 point, Times New Roman font. The name of the institution must be in the header or footer.

Applications shall be addressed to: College of Information and Cyberspace, University of Consortium for Cybersecurity, Attn: Dr. Gwyneth Sutherlin, 300 Fifth Ave., Bldg. 62, Fort Lesley J. McNair, Washington, DC 20319-5066.

SUPPLEMENTARY INFORMATION: In accordance with Section 1505 of Public Law 117-263 (Dec. 23, 2022; 136 Stat. 2395), the Secretary shall require proposals be submitted by institutions designed as a National Center of Academic Excellence in Cybersecurity (NCAE-C).

The NCAE-C program is managed by the National Cryptologic School at the National Security Agency. U.S. Government partners include the Cybersecurity and Infrastructure Security Agency and the Federal Bureau of Investigation. Such designation was created to manage a collaborative cybersecurity educational program with community colleges, colleges, and universities that: (1) establishes standards for cybersecurity curriculum and academic excellence; (2) includes competency development among students and faculty; (3) values community outreach and leadership in professional development; (4) integrates cybersecurity practice within the institution across academic disciplines; and (5) actively engages in solutions to challenges facing cybersecurity education.

There are three types of designations:

The Cyber Defense (CAE-CD) Designation is awarded to regionally accredited academic institutions offering cybersecurity degrees and/or certificates at the associates, bachelors, and masters and doctoral levels.

The Cyber Research (CAE-R) designation is awarded to DoD schools, doctoral degree-producing military institutions, or regionally accredited, degree granting four-year institutions rated by the Carnegie Foundation Basic Classification system as either a Doctoral University—Highest Research Activity (R1), Doctoral University—Higher Research Activity (R2), or Doctoral University—Moderate Research Activity (R3).

The Cyber Operations (CAE-CO) program is a deeply technical, inter-disciplinary, higher education program firmly grounded in the computer science, computer engineering, and/or electrical engineering disciplines, with extensive opportunities for hands-on applications via labs and exercises.

More information can be found here: https://www.nsa.gov/Academics/Centers-of-Academic-Excellence/.

An added requirement is the capability to be immediately eligible or current Facility Clearance (FCL) eligibility for access to classified information. As required by the Defense Counterintelligence and Security Agency (DCSA), entities (including companies and academic institutions) engaged in providing goods or services to the U.S. Government involving access to or creation of classified information may be granted an FCL. Mandated by the guidelines set forth in the National Industrial Security Program, DCSA processes, issues, and monitors the continued eligibility of entities for an FCL.

More information can be found here: https://www.esd.whs.mil/Portals/54/Documents/DD/issuances/dodm/520001m_vol3.pdf and https://www.dcsa.mil/Industrial-Security/Entity-Vetting-Facility-Clearances-FOCI/Facility-Clearances/.

Dated: September 8, 2024.
Aaron T. Siegel,
Alternate OSD Federal Register Liaison Officer, Department of Defense.

[FR Doc. 2024-20652 Filed 9-11-24; 8:45 am]

BILLING CODE 6001-FR-P